DEPARTMENT OF ENERGY

Federal Energy Regulatory Commission

Combined Notice of Filings

Take notice that the Commission has received the following Natural Gas Pipeline Rate and Refund Report filings:

Filings Instituting Proceedings

Docket Numbers: RP16-360-000.

Applicants: Venice Gathering System, LLC.

Description: Motion for Extension of Time to Comply with Certain Requirements of Order Nos. 587-W and 809 of Venice Gathering System, L.L.C. under RP16-360.

Filed Date: 1/5/16.

Accession Number: 20160105-5412.

Comments Due: 5 p.m. ET 1/15/16.

Docket Numbers: RP16-361-000.

Applicants: Iroquois Gas Transmission System, L.P.

Description: § 4(d) Rate Filing: 01/06/16 Negotiated Rates—Consolidated Edison Energy Inc. (HUB) 2275-89 to be effective 1/5/2016.

Filed Date: 1/6/16.

Accession Number: 20160106-5144.

Comments Due: 5 p.m. ET 1/19/16.

Docket Numbers: RP16-362-000.

Applicants: Iroquois Gas Transmission System, L.P.

Description: § 4(d) Rate Filing: 01/06/16 Negotiated Rates—Mercuria Energy Gas Trading LLC (HUB) 7540-89 to be effective 1/5/2016.

Filed Date: 1/6/16.

Accession Number: 20160106-5145.

Comments Due: 5 p.m. ET 1/19/16.

Docket Numbers: RP16-363-000.

Applicants: Maritimes & Northeast Pipeline, L.L.C.

Description: § 4(d) Rate Filing: MNUS Open Season Process for Sale of Available Capacity to be effective 2/6/2016.

Filed Date: 1/6/16.

Accession Number: 20160106-5155.

Comments Due: 5 p.m. ET 1/19/16.

Docket Numbers: RP16-364-000.

Applicants: El Paso Natural Gas Company, L.L.C.

Description: § 4(d) Rate Filing: Update to Service Request Procedures Filing to be effective 2/8/2016.

Filed Date: 1/6/16.

Accession Number: 20160106-5314.

Comments Due: 5 p.m. ET 1/19/16.

Docket Numbers: RP16-365-000.

Applicants: Enable Gas Transmission, LLC.

Description: § 4(d) Rate Filing: Negotiated Rate Filing—LER 1005896 to be effective 1/6/2016.

Filed Date: 1/6/16.

Accession Number: 20160106-5317.

Comments Due: 5 p.m. ET 1/19/16.

Docket Numbers: RP16-366-000.

Applicants: Paiute Pipeline Company.

Description: § 4(d) Rate Filing: Non-conforming TSA 49-A to be effective 1/7/2016.

Filed Date: 1/6/16.

Accession Number: 20160106-5328.

Comments Due: 5 p.m. ET 1/19/16.

Docket Numbers: RP16-367-000.

Applicants: Trailblazer Pipeline Company LLC.

Description: § 4(d) Rate Filing: Neg Rate 2016-01-06 2 Koch Ks to be effective 1/6/2016.

Filed Date: 1/6/16.

Accession Number: 20160106-5329.

Comments Due: 5 p.m. ET 1/19/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-240-001.

Applicants: Alliance Pipeline L.P.

Description: Compliance filing Reinstate BP Contract to be effective 12/1/2015.

Filed Date: 1/6/16.

Accession Number: 20160106-5326.

Comments Due: 5 p.m. ET 1/19/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2016.
Nathaniel J. Davis, Sr.,
Deputy Secretary.

[FR Doc. 2016-00607 Filed 1-13-16; 8:45 am]

BILLING CODE 6717-01-P